DEPARTMENT OF COMMERCE

National Oceanic and Atmospheric Administration

RIN 0648-XC666

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a meeting, which is open to the public.

DATES: The HMSMT work session will begin at 3 p.m. on Tuesday, May 28; 8:30 a.m. on Wednesday, May 29; and 8:30 a.m. Thursday, May 30, 2013. On each day, the meeting will continue until business is completed.

ADDRESSES: Meeting address: The meeting will be held in the Pacific Room, Southwest Fisheries Science Center, 8901 La Jolla Shores Dr., La Jolla, CA 92037-1509.

Council address: Pacific Council, 7700 NE Ambassador Place, Suite 101, Portland, OR 97220-1384.

FOR FURTHER INFORMATION CONTACT: Dr. Kit Dahl, Pacific Council; telephone: (503) 820-2280.

SUPPLEMENTARY INFORMATION: The HMSMT will discuss the following topics:

1. An assignment from the March 2013 Council meeting in Tacoma, WA. The Council directed the HMSMT to identify potential measures that should be implemented pursuant to the precautionary management framework for North Pacific albacore currently under development at the international level. The HMSMT will provide a report with its recommendations at the June 20-25, 2013, Pacific Council meeting.

2. Response to finding by National Marine Fisheries Service that Pacific bluefin tuna (Thunnus orientalis) is overfished and recommendations for Pacific Council response per Section 304(i) of the Magnuson-Stevens Conservation and Management Act.

3. Work on the 2013 Stock Assessment and Fishery Evaluation document, which is prepared annually, summarizing information from the previous year.

4. Future work planning.

5. Informational topics related to HMSMT responsibilities.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Dated: May 6, 2013.
Tracey L. Thompson,
Acting Deputy Director, Office of Sustainable Fisheries, National Marine Fisheries Service.

[FR Doc. 2013-11083 Filed 5-9-13; 8:45 am]

BILLING CODE 3510-22-P